DEPARTMENT OF ENERGY

[FE Docket Nos. 14-111-NG; et al.]

Orders Granting Authority To Import and Export Natural Gas, To Import and Export Liquefied Natural Gas, To Vacate Authorization, and To Dismiss Application During February 2016

| FE Docket Nos.
NUTRECO CANADA INC | 14-111-NG
FORTUNA (US) L.P | 14-146-NG
PIERIDAE ENERGY (USA) LTD | 14-179-LNG
BEAR HEAD LNG CORPORATION AND BEAR HEAD LNG (USA), LLC | 15-14-LNG
BEAR HEAD LNG CORPORATION AND BEAR HEAD LNG (USA), LLC | 15-33-LNG
CONSOLIDATED EDISON ENERGY, INC | 15-186-NG
BROOKFIELD ENERGY MARKETING LP | 16-03-NG
PHILLIPS 66 COMPANY | 16-07-NG
CENTRAL LOMAS DE REAL, S.A. DE C.V | 16-06-NG
GOLDEN PASS LNG TERMINAL LLC | 16-08-NG
CONOCOPHILLIPS ALASKA NATURAL GAS CORPORATION | 15-149-LNG
NOCO ENERGY CORP | 16-09-NG
SHELL NA LNG LLC | 16-10-LNG
SHELL ENERGY NORTH AMERICA (US), L.P | 16-11-NG
EXCELERATE ENERGY L.P | 16-12-NG
NEW WORLD GLOBAL LLC | 16-16-LNG
CNE GAS SUPPLY, LLC | 16-14-NG
CONSTELLATION ENERGY GAS CHOICE, INC | 16-13-NG

AGENCY: Office of Fossil Energy, Department of Energy.

ACTION: Notice of orders.

SUMMARY: The Office of Fossil Energy (FE) of the Department of Energy gives notice that during February 2016, it issued orders granting authority to import and export natural gas, to import and export liquefied natural gas (LNG), to vacate authority, and to dismiss applications. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on March 18, 2016.
John A. Anderson,
Director, Office of Regulation and International Engagement, Office of Oil and Natural Gas.

Appendix—DOE/FE Orders Granting Import/Export Authorizations
3488-A | 02/25/16 | 14-111-NG | Nutreco Canada Inc. | Order 3488-A vacating blanket authority to import/export natural gas from/to Canada.
3531-A | 02/25/16 | 14-146-NG | Fortuna (US) L.P. | Order 3531-A vacating blanket authority to import/export natural gas from/to Canada.
3768 | 02/05/16 | 14-179-LNG | Pieridae Energy (USA) Ltd. (NFTA) | Order 3768 granting long-term, multi-contract authority to export U.S.-Sourced natural gas by pipeline to Canada for liquefaction and re-export in the form of LNG to Non-FTA countries.
3769 | 02/05/16 | 15-14-LNG | Bear Head LNG Corporation and Bear Head LNG (USA), LLC | Order 3769 dismissing application for In-Transit shipments of Canadian-Sourced natural gas and directing submission of information concerning In-Transit shipments returning to the country of origin.
3770 | 02/05/16 | 15-33-LNG | Bear Head LNG Corporation and Bear Head LNG (USA), LLC | Order 3768 granting long-term, multi-contract authority to export U.S.-Sourced natural gas by pipeline to Canada for liquefaction and re-export in the form of LNG to Non-FTA countries.
3774 | 02/04/16 | 15-186-NG | Consolidated Edison Energy, Inc | Order 3774 granting blanket authority to import/export natural gas from/to Canada.
3780 | 02/02/16 | 16-03-NG | Brookfield Energy Marketing LP | Order 3780 granting blanket authority to import/export natural gas from/to Canada.
3781 | 02/02/16 | 16-07-NG | Phillips 66 Company | Order 3781 granting blanket authority to import natural gas from Canada.
3782 | 02/02/16 | 16-06-NG | Central Lomas de Real, S.A. de C.V | Order 3782 granting blanket authority to import/export natural gas from/to Mexico.
3783 | 02/02/16 | 16-08-NG | Golden Pass LNG Terminal LLC | Order 3783 granting blanket authority to import LNG from various international sources by vessel.
3784 | 02/08/16 | 15-149-LNG | ConocoPhillips Alaska Natural Gas Corporation | Order 3784 granting blanket authority to export LNG by vessel from the Kenai LNG Facility near Kenai, Alaska, and vacating prior authority in Order 3418.
3785 | 02/25/16 | 16-09-NG | NOCO Energy Corp | Order 3785 granting blanket authority to import/export natural gas from/to Canada.
3786 | 02/25/16 | 16-10-LNG | Shell NA LNG LLC | Order 3786 granting blanket authority to import LNG from various international sources by vessel.
3787 | 02/25/16 | 16-11-NG | Shell Energy North America (US), L.P | Order 3787 granting blanket authority to import/export natural gas from/to Canada/Mexico.
3788 | 02/25/16 | 16-12-NG | Excelerate Energy L.P | Order 3788 granting blanket authority to import LNG from various international sources by vessel.
3789 | 02/25/16 | 16-16-LNG | New World Global LLC | Order 3789 granting blanket authority to export LNG to Mexico by truck.
3790 | 02/25/16 | 16-14-NG | CNE Gas Supply, LLC | Order 3790 granting blanket authority to export natural gas to Canada/Mexico.
3791 | 02/25/16 | 16-13-NG | Constellation Energy Gas Choice, Inc | Order 3791 granting blanket authority to import natural gas from Canada.

[FR Doc. 2016-06662 Filed 3-23-16; 8:45 am]

BILLING CODE 6450-01-P